SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(f)

1. S.T.L. Resources, LLC, Pad ID: Sturgis Pad, ABR-201802001, Gallagher Township, Clinton County, Pa.; Consumptive Use of Up to 5.0000 mgd; Approval Date: February 1, 2018.

2. Chief Oil & Gas, LLC, Pad ID: SGL 12 M NORTH DRILLING PAD, ABR-201802002, Leroy Township, Bradford County, Pa.; Consumptive Use of Up to 2.5000 mgd; Approval Date: February 9, 2018.

3. JKLM Energy, LLC, Pad ID: Judson Hollow 302, ABR-201802003, Pike Township, Potter County, Pa.; Consumptive Use of Up to 3.2000 mgd; Approval Date: February 9, 2018.

4. Inflection Energy (PA), LLC, Pad ID: Brass Well site, ABR-201802004, Upper Fairfield Township, Lycoming County, Pa.; Consumptive Use of Up to 4.0000 mgd; Approval Date: February 21, 2018.

Authority: Pub. L. 91-575, 84 Stat. 1509 et seq., 18 CFR parts 806, 807, and 808.

Dated: April 6, 2018.
Stephanie L. Richardson,
Secretary to the Commission.

[FR Doc. 2018-07423 Filed 4-10-18; 8:45 am]

BILLING CODE 7040-01-P